DEPARTMENT OF ENERGY

National Nuclear Security Administration

Extension of Comment Period on the Draft Site-Wide Environmental Impact Statement for Continued Operation of Los Alamos National Laboratory, Los Alamos, NM

AGENCY: U.S. Department of Energy (DOE), National Nuclear Security Administration (NNSA).

ACTION: Notice of comment period extension.

SUMMARY: On July 7, 2006, NNSA published a Notice of Availability for the Draft Site-wide Environmental Impact Statement for Continued Operation of Los Alamos National Laboratory, Los Alamos, New Mexico (LANL Draft SWEIS) (DOE/EIS-0380) (71 FR 38638) and announced a 60-day public comment period ending September 5, 2006. Subsequently, in response to requests for additional time to review and comment on the document, NNSA is extending the public comment period until September 20, 2006.

DATES: Comments should be submitted to NNSA no later than September 20, 2006. NNSA will consider comments submitted after this date to the extent practicable.

ADDRESSES: Comments, or requests for copies of the LANL Draft SWEIS should be sent to: U.S. Department of Energy, National Nuclear Security Administration, Los Alamos Site Office, Attn: Ms. Elizabeth Withers, SWEIS Document Manager, 528 35th Street, Los Alamos, New Mexico, 87544; or by facsimile (1-505-667-5948); or by e-mail at: LANL_SWEIS@doeal.gov.

Requests for copies of the LANL Draft SWEIS or recorded comments may also be made by calling 1-877-491-4957. Please mark all envelopes, faxes and e-mail: “LANL Draft SWEIS Comments”. The LANL Draft SWEIS and its reference documents are available for review at: the Robert J. Oppenheimer Study Center Research Library, Technical Area 3, Los Alamos National Laboratory, Los Alamos, New Mexico; the Office of the Northern New Mexico Citizens Advisory Board, 1660 Old Pecos Trail, Suite B, Santa Fe, New Mexico; and the Zimmerman Library, University of New Mexico, Albuquerque, New Mexico. The Draft SWEIS is available on the DOE Los Alamos Site Office's NEPA Web site at: http://www.doeal.gov/laso/nepa/sweis.htm.

FOR FURTHER INFORMATION CONTACT: U.S. Department of Energy, Los Alamos Site Office, Attn: Ms. Elizabeth Withers, SWEIS Document Manager, 528 35th Street, Los Alamos, New Mexico 87544; or telephone 1-505-845-4984.

Issued in Los Alamos, NM, this 24th day of August, 2006.
Edwin L. Wilmot,
Manager.

[FR Doc. 06-7298 Filed 8-30-06; 8:45 am]

BILLING CODE 6450-01-P